DEPARTMENT OF THE INTERIOR

Bureau of Land Management

[ID-933-1430-EU; IDI 8104, IDI 8105, IDI 8175, IDI 8934]

Termination of Desert Land Entry and Carey Act Classifications

AGENCY: Bureau of Land Management, Interior.

ACTION: Notice.

SUMMARY: This notice terminates Desert Land Entry and Carey Act Classifications on 1173.93 acres of land in Elmore County as these classifications are no longer needed.

EFFECTIVE DATE: August 22, 2002.

FOR FURTHER INFORMATION CONTACT: Catherine D. Foster, BLM Idaho State Office, 1387 S. Vinnell Way, Boise, Idaho 83709, 208-373-3863.

SUPPLEMENTARY INFORMATION: On February 14, 1983, the lands listed below were classified as either suitable or unsuitable for entry under the authority of the Desert Land Act of March 3, 1877, as amended and supplemented (43 U.S.C. 321, et seq.) and the Carey Act of August 18, 1894, as amended (43 U.S.C. 641 et seq.). The classifications on the following described lands are hereby terminated:

Serial No. | Classification | Township | Range | Section | Subdivision
IDI 8104 | Suitable | 5 S | 10 E | 33 | S½SE¼, NW¼SE¼.
| Non-Suitable | 5 S | 10 E | 32 | Lot 8, S½SE¼.
|  |  |  | 33 | S½SW¼.
IDI 8105 | Suitable | 5 S | 10 E | 33 | NE¼SE¼, NW¼SW¼.
| Non-Suitable |  |  | 34 | S½SW¼.
|  | 6 S | 10 E | 3 | Lots 3 & 4.
|  |  |  | 5 | Lot 1.
IDI 8175 | Suitable | 6 S | 12 E | 18 | Lots 13-17.
|  |  |  | 19 | Lots 6 & 7.
| Non-Suitable | 6 S | 12 E | 18 | Lot 12.
IDI 8934 | Suitable | 6 S | 11 E | 13 | SW¼.
|  |  |  | 14 | SE¼SE¼.
|  | 6 S | 12 E | 18 | Lots 6-8.

At 9 a.m. on August 22, 2002, the Desert Land Entry and Carey Act classifications identified above will be terminated. No opening order is required as these lands will remain open since they were never segregated from the operation of the public land laws, including the mining laws and mineral leasing laws.

Dated: May 29, 2002.
Jimmie Buxton,
Branch Chief, Lands and Minerals.

[FR Doc. 02-21390 Filed 8-21-02; 8:45 am]

BILLING CODE 4310-GG-P